FEDERAL COMMUNICATIONS COMMISSION

[Report No. 2870]

Petitions for Reconsideration of Action in Rulemaking Proceeding

Correction

In notice document E8-17276 beginning on page 43753 in the issue of Monday, July 28, 2008, make the following correction:

On page 43753, in the third column, in the first paragraph, in the thirteenth line, “September 11, 2008” should read “August 12, 2008”.

[FR Doc. Z8-17276 Filed 7-31-08; 8:45 am]

BILLING CODE 1505-01-D

DEPARTMENT OF HOMELAND SECURITY

Transportation Security Administration

Intent to Request Approval From OMB of One New Public Collection of Information: On-Boarding Information for New Hire Candidates

Correction

In notice document E8-16543 beginning on page 41367 in the issue of Friday, July 18, 2008, make the following correction:

On page 41368, in the second column, in the signature block, “June 14, 2008” should read “July 14, 2008”.

[FR Doc. Z8-16543 Filed 7-31-08; 8:45 am]

BILLING CODE 1505-01-D